DEPARTMENT OF AGRICULTURE

Forest Service

Information Collection; Fire & Aviation Management Medical Qualifications Program

AGENCY: Forest Service, USDA.

ACTION: Notice; request for comment.

SUMMARY: In accordance with the Paperwork Reduction Act of 1995, the USDA Forest Service is seeking comments from all interested individuals and organizations on the renewal with revisions of a currently approved information collection, Fire & Aviation Management Medical Qualifications Program.

DATES: Comments must be received in writing on or before April 18, 2022 to be assured of consideration. Comments received after that date will be considered to the extent practicable.

ADDRESSES: Commenters are encouraged to submit comments by email, if possible. You may submit comments by any of the following methods:

• Email: jennifer.symonds@usda.gov.

• Mail: Dr. Jennifer Symonds, USDA Forest Service, National Interagency Fire Center, 3833 South Development Avenue, Boise, Idaho 83705.

• Hand Delivery/Courier: Dr. Jennifer Symonds, USDA Forest Service, National Interagency Fire Center, 3833 South Development Avenue, Boise, Idaho 83705.

• Facsimile: 208-387-5735.

The public may inspect comments received at the National Interagency Fire Center, during normal business hours. Visitors are encouraged to call ahead to facilitate entry to the building.

FOR FURTHER INFORMATION CONTACT: Dr. Jennifer Symonds, Forest Service Wildland Fire Medical Qualifications Program Manager, at 208-387-5978. Individuals who use telecommunication devices for the deaf (TDD) may call the Federal Relay Service (FRS) at 1-800-877-8339 twenty-four hours a day, every day of the year, including holidays.

SUPPLEMENTARY INFORMATION:

Title: Fire & Aviation Management Medical Qualifications Program.

OMB Number: 0596-0164.

Expiration Date of Approval: November 30, 2022.

Type of Request: Renewal with revisions of a currently approved information collection.

Abstract: The Protection Act of 1922 (16 U.S.C. 594) authorizes the Forest Service to fight fires on National Forest System lands. This information collection is an approved Forest Service collection. The collection covers the USDA Forest Service and the Department of the Interior and contains the information collection activities and burden hours for both agencies.

Wildland firefighters perform long hours of arduous labor in adverse environmental conditions. It is imperative that these firefighters be in sufficient physical condition to avoid injury to themselves or their coworkers. Federal employees and private individuals seeking employment as a firefighter with the Forest Service, or the Department of Interior complete the health capability forms. This information collection covers the forms and burden hours associated with the private individuals who apply for firefighter positions with the aforementioned agencies.

Form FS-5100-30, Work Capacity Test—Informed Consent. The form is signed by those deemed to be in sufficient health to undergo a Work Capacity Test. The Work Capacity Test determines the level of an individual's aerobic fitness, level of muscular strength, and muscle endurance. The consent form is necessary to ensure the individual taking the test is aware of the various testing levels (arduous, moderate, and light) and the risks involved. The individual indicates the following:

• They have read the information on the form, the brochure “Work Capacity Test” and understand the purpose, instructions, and risks of the test;

• They have read the information, understood, and truthfully answered the Health Screen Questionnaire; and

• Test to be taken—pack test (arduous), field test (moderate), or walk test (light).

Failure to collect this data could result in injuries or deaths during the “Work Capacity Test” and while working on wildland fires. The information provided by an applicant for Federal employment is stored in secured electronic official files, maintained according to Agency regulations. The information gathered is not available from other sources.

Estimate of Annual Burden: 5.5 Minutes.

Type of Respondents: Individuals.

Estimated Annual Number of Respondents: 20,504.

Estimated Annual Number of Responses per Respondents: 1.

Estimated Total Annual Burden on Respondents: 1,845 hours.

Form FS-5100-31, Health Screening Questionnaire. Prospective fire personnel must complete this form when seeking employment as new fire personnel with the Forest Service or Department of the Interior. This form collects the following information:

• Name and Unit;

• Medical history;

• Current medical symptoms;

• Other health history and issues; and

• Cardiovascular risk factors.

The information collected pertains to an individual's health status and health history in an effort to determine if any physical conditions exist that might result in injury or death during fitness testing or when fighting a wildfire. If Federal Agency officials determine, based on the collected information, that an individual may not be physically able to train for or take a Work Capacity Test; the agency will require the individual to undergo a physical examination by a physician.

Failure to collect this data could result in injuries or deaths during the “Work Capacity Test” and while working on wildland fires. The information provided by an applicant for Federal employment is stored in secured electronic official files, maintained according to Agency regulations. The information gathered is not available from other sources.

Estimate of Annual Burden: 10 Minutes.

Type of Respondents: Individuals.

Estimated Annual Number of Respondents: 20,504.

Estimated Annual Number of Responses per Respondents: 1.

Estimated Total Annual Burden on Respondents: 3,417 hours.

Form FS-5100-41, USFS Wildland Firefighter Medical Qualifications Program Physical Exam. Federal employees and private individuals seeking employment as a firefighter with the Forest Service will complete the form every three years (years 0, 3, 6, etc.). The form collects the following information:

• Name, Federal Employee Number (if applicable), Sex and Date of Birth;

• Address, Email Address, and Telephone Number;

• Physical Activity Level and Fire Experience with Home Unit and Forest;

• Past Medical History;

• Current medical symptoms; and

• Other health issues.

The information collected pertains to an individual's health status and health history in an effort to determine if any medical or physical conditions exist that might result in injury or death during fitness testing or when fighting a wildfire. If Federal Agency officials determine, based on the collected information, that an individual may not be medically or physically able to train for or take a Work Capacity Test or meet the Medical Standards of arduous duty fire positions, the individual may request a waiver.

The information provided by a firefighter for Federal employment is stored in secured official files, maintained according to Agency regulations. The information gathered is not available from other sources.

Estimate of Annual Burden: 2 to 3 hours.

Type of Respondents: Individuals.

Estimated Annual Number of Respondents: 10,252.

Estimated Annual Number of Responses per Respondents: 1.

Estimated Total Annual Burden on Respondents: 20,504-30,756 hours.

Form FS-5100-42, Self-Certification Statement and Blood Pressure Check. Federal employees and private individuals seeking employment as a firefighter with the Forest Service will complete the form the years in which the individual does not complete an Arduous Duty Examination. The form collects the following information:

• Name and Date of Birth;

• Home Unit and Forest

• Medical history;

• Current medical symptoms; and

• Other health issues.

The information collected pertains to an individual's health status and health history in an effort to determine if any medical or physical conditions exist that might result in injury or death during fitness testing or when fighting a wildfire. If Federal Agency officials determine, based on the collected information, that an individual may not be medically or physically able to train for or take a Work Capacity Test or meet the Medical Standards of arduous duty fire positions, the individual may request a waiver.

The information provided by a firefighter for Federal employment is stored in secured official files, maintained according to Agency regulations. The information gathered is not available from other sources.

Estimate of Annual Burden: 10 Minutes.

Type of Respondents: Individuals.

Estimated Annual Number of Respondents: 10,252.

Estimated Annual Number of Responses per Respondents: 1.

Estimated Total Annual Burden on Respondents: 1,709 hours.

TOTAL Estimate of Annual Burden: 145.5-205.5 Minutes.

TOTAL Type of Respondents: Individuals.

TOTAL Estimated Annual Number of Respondents: 20,504.

TOTAL Estimated Annual Number of Responses per Respondents: 1.

TOTAL Estimated Total Annual Burden on Respondents: 27,475-30,756 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jaelith Rivera,
Deputy Chief, State & Private Forestry.

[FR Doc. 2022-03297 Filed 2-15-22; 8:45 am]

BILLING CODE 3411-15-P